DEPARTMENT OF COMMERCE

International Trade Administration

[A-570-848]

Freshwater Crawfish Tail Meat From the People's Republic of China: Final Results of Sunset Review and Revocation of Antidumping Duty Order

AGENCY: Enforcement and Compliance, International Trade Administration, Department of Commerce.

SUMMARY: On April 1, 2019, the Department of Commerce (Commerce) initiated a sunset review of the antidumping duty (AD) order on freshwater crawfish tail meat from the People's Republic of China (China). Because no domestic interested party responded to the sunset review notice of initiation by the applicable deadline, Commerce is revoking the AD order on freshwater crawfish tail meat from China.

DATES: Applicable May 16, 2019.

FOR FURTHER INFORMATION CONTACT: Jacob Keller or Minoo Hatten, AD/CVD Operations, Office I, Enforcement and Compliance, International Trade Administration, U.S. Department of Commerce, 1401 Constitution Avenue NW, Washington, DC 20230; telephone: (202) 482-4849 or (202) 482-1690, respectively.

SUPPLEMENTARY INFORMATION:

On September 15, 1997, Commerce published an AD order on imports of freshwater crawfish tail meat from China.¹ In the first three sunset reviews, Commerce and the International Trade Commission (ITC) determined that the continuation of the order was warranted.² On April 1, 2019, Commerce initiated the current sunset review pursuant to section 751(c) of the Tariff Act of 1930, as amended (the Act) and 19 CFR 351.218.³

¹ See Notice of Amendment to Final Determination of Sales at Less Than Fair Value and Antidumping Duty Order: Freshwater Crawfish Tail Meat from the People's Republic of China, 62 FR 48218 (September 15, 1997).

² See Continuation of Antidumping Duty Order: Freshwater Crawfish Tail Meat from the People's Republic of China, 68 FR 48340 (August 13, 2003); Continuation of Antidumping Duty Order on Freshwater Crawfish Tail Meat from the People's Republic of China, 73 FR 75392 (December 11, 2008); and Freshwater Crawfish Tail Meat from the People's Republic of China: Continuation of Antidumping Duty Order, 79 FR 28483 (May 16, 2014).

³ See Initiation of Five-Year (Sunset) Reviews, 84 FR 12227 (April 1, 2019).

We did not receive a notice of intent to participate from the domestic interested parties in this sunset review, pursuant to 19 CFR 351.218(d)(1)(i). As a result, in accordance with 19 CFR 351.218(d)(1)(iii)(A), Commerce has determined that no domestic interested party intends to participate in the sunset review. On April 23, 2019, Commerce notified the ITC in writing that we intend to revoke the AD order on freshwater crawfish tail meat from China.⁴

⁴ See Commerce Letter, re: Sunset Review Initiated on April 1, 2019, dated April 23, 2019.

Scope of the Order

The product covered by the AD order is freshwater crawfish tail meat, in all its forms (whether washed or with fat on, whether purged or un-purged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (CBP) in 2000, and HTSUS numbers 0306.19.00.10 and 0306.29.00.00, which are reserved for fish and crustaceans in general. On February 10, 2012, Commerce added HTSUS classification number 0306.29.01.00 to the scope description pursuant to a request by CBP. On September 21, 2018, Commerce added HTSUS classification numbers 0306.39.0000 and 0306.99.0000 to the scope description pursuant to a request by CBP. The HTSUS subheadings are provided for convenience and customs purposes only. The written description of the scope of the order is dispositive.

Revocation

Pursuant to section 751(c)(3)(A) of the Act and 19 CFR 351.218(d)(1)(iii)(B)(3), if no domestic interested parties respond to a notice of initiation, Commerce shall, within 90 days after the initiation of the review, revoke the order. Because no domestic interested party filed a notice of intent to participate in this sunset review, we determine that no domestic interested party is participating in this sunset review. Therefore, we are revoking the AD order on freshwater crawfish tail meat from China.

Effective Date of Revocation

Pursuant to section 751(c)(3)(A) of the Act, and 19 CFR 351.222(i)(2)(i), Commerce intends to instruct CBP to terminate the suspension of liquidation of the merchandise subject to this order entered, or withdrawn from warehouse, on or after May 16, 2019, the fifth anniversary of the date of publication of the last continuation notice. Entries of subject merchandise prior to the effective date of revocation will continue to be subject to suspension of liquidation and AD deposit requirements. Commerce will complete any pending reviews of this order and will conduct administrative reviews of subject merchandise entered prior to the effective date of revocation in response to appropriately filed requests for review.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

This five-year (sunset) review and this notice are issued and published in accordance with sections 751(c) and 777(i)(1) of the Act and 19 CFR 351.218(f)(4).

Dated: June 3, 2019.
Jeffrey I. Kessler,
Assistant Secretary for Enforcement and Compliance.

[FR Doc. 2019-12027 Filed 6-6-19; 8:45 am]

BILLING CODE 3510-DS-P